FEDERAL HOUSING FINANCE AGENCY

[No. 2013-N-16]

12 CFR Part 1260

Information To Be Distributed to the Federal Home Loan Banks and the Office of Finance

AGENCY: Federal Housing Finance Agency.

ACTION: Notification.

SUMMARY: Section 20A of the Federal Home Loan Bank Act (Bank Act), requires the Director of the Federal Housing Finance Agency (FHFA) to make available to the Federal Home Loan Banks (Banks) such reports, records, or other information as may be available, relating to the condition of any Bank in order to enable each Bank to evaluate the financial condition of one or more of the other Banks individually and the Bank System as a whole. FHFA has adopted, and published in this issue of the Federal Register, a regulation to implement the statutory information sharing provisions, which will be located at 12 CFR part 1260. As required by § 1260.2(b) of that regulation, FHFA is providing this notification to the Banks and the Bank System's Office of Finance of the categories of information that it will distribute under part 1260 beginning on the effective date noted below.

DATES: Effective Date: January 6, 2014.

FOR FURTHER INFORMATION CONTACT: Eric M. Raudenbush, Assistant General Counsel, Office of General Counsel, Eric.Raudenbush@fhfa.gov, (202) 649-3084; or Jonathan Curtis, Financial Analyst, Office of Program Support, Division of Bank Regulation, Jonathan.Curtis@fhfa.gov, (202) 649-3321 (these are not toll-free numbers), Federal Housing Finance Agency, 400 Seventh Street SW., Washington, DC 20024. The telephone number for the Telecommunications Device for the Hearing Impaired is (800) 877-8339.

SUPPLEMENTARY INFORMATION: In order to fulfill the requirements of section 20A of the Bank Act (12 U.S.C. 1440a), and as provided in 12 CFR part 1260, FHFA will distribute or otherwise make available to each Bank and to the Office of Finance on a regular and ongoing basis the following categories of information, as soon as practicable after the materials have been prepared in final form:

1. Information submitted by a Bank to FHFA's call report system (CRS) electronic database, excluding Bank membership information;

2. Information about each Bank, and the Banks collectively, that is presented in FHFA's semi-annual “Profile of the Federal Home Loan Bank System” report prepared by FHFA's Division of Bank Regulation (DBR);

3. Information about each Bank, and the Banks collectively, that is contained in the weekly report on Bank liquidity prepared by DBR;

4. Information about each Bank, and the Banks collectively, that is contained in the quarterly report on Bank membership prepared by DBR;

5. Information about each Bank, and the Banks collectively, that is contained in the weekly report on the Banks' unsecured credit exposure prepared by DBR;

6. A quarterly statement, to be prepared by FHFA, indicating whether each Bank has timely filed with FHFA the quarterly liquidity certification required under 12 CFR 1270.10(b)(1);

7. A statement, to be prepared by FHFA as circumstances warrant, identifying any Bank that has notified FHFA pursuant to 12 CFR 1270.10(b)(2) of any actual or anticipated liquidity problems and describing the nature of the liquidity problems; and

8. Beginning with the calendar year 2014 Bank examination cycle, information contained in the “Summary and Conclusions” portion of each Bank's final report of examination.

Dated: November 22, 2013.
Edward J. DeMarco,
Acting Director, Federal Housing Finance Agency.

[FR Doc. 2013-28886 Filed 12-5-13; 8:45 am]

BILLING CODE 8070-01-P